DEPARTMENT OF ENERGY

Federal Energy Regulatory Commission

[Project No. 14679-000]

Virterras Hydro Power, Inc.; Notice of Preliminary Permit Application Accepted for Filing and Soliciting Comments, Motions To Intervene, and Competing Applications

On May 1, 2015, Virterras Hydro Power, Inc., filed an application for a preliminary permit, pursuant to section 4(f) of the Federal Power Act (FPA), proposing to study the feasibility of the Silver Creek Pumped Storage Project to be located on Silver Creek Reservoir in Schuylkill County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new 8,000-foot-long, 125- to 175-foot-high roller-compacted concrete or rock-filled semi-circular dam and/or dike forming an upper reservoir having a surface area of 150 acres and a total storage capacity between approximately 8,000 and 10,000 acre-feet at a normal maximum water surface elevation between approximately 1,650 and 1,750 feet above mean sea level (msl); (2) a lower reservoir encompassing the existing Silver Creek Reservoir and neighboring abandoned mines land and having a surface area of 100 acres and a total storage capacity of 10,000 acre-feet at a normal maximum water surface elevation between 1,200 and 1,300 feet msl; (3) a 3,000-foot-long tunnel connecting the upper and lower reservoirs; (4) a powerhouse containing two turbine units with a total rated capacity of 250 megawatts; (5) a 2-mile-long transmission line connecting to an existing 230 kilovolt (kV) line or a 4000-foot-long transmission line connecting to an existing 69-kV line; and (6) appurtenant facilities. The proposed project would have an annual generation of 784,750 megawatt-hours.

Applicant Contact: Kirk McAfee, Virterras Hydro Power, Inc., Glenmaura Professional Center, 72 Glenmaura Blvd., Suite 105, Moosic, PA 18057; phone: 707-888-2892.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14679-000.

More information about this project, including a copy of the application, can be viewed or printed on the “eLibrary” link of Commission's Web site at http://www.ferc.gov/docs-filing/elibrary.asp. Enter the docket number (P-14679) in the docket number field to access the document. For assistance, contact FERC Online Support.

Dated: June 2, 2015.
Kimberly D. Bose,
Secretary.

[FR Doc. 2015-13903 Filed 6-5-15; 8:45 am]

BILLING CODE 6717-01-P